DEPARTMENT OF ENERGY

Federal Energy Regulatory Commission

[Docket No. RP06-88-000]

Southern Natural Gas Company; Notice of Request for Waiver

November 15, 2005.

Take notice that on November 10, 2005, Southern Natural Gas Company (Southern) tendered for filing request for waiver with the Commission for authorization to waive the requirements of section 6.3 of the general terms and conditions of its tariff to allow shippers with firm rights at receipt points that are out of service as a result of the damage caused by Hurricanes Rita and Katrina to request a temporary shift to a receipt point on a firm basis where capacity is available up to their maximum daily receipt quantity. Southern states that such receipt point shifts will be for a temporary period of the earlier of: (i) The first of the month after the date the existing firm receipt point is operational and Southern is able to gas accept nominations; or (ii) through June 30, 2006. Southern further states that the rights to the existing firm receipt points will automatically revert back at the end of the temporary period.

Southern states that it will hold an open season specifically for such temporary receipt point shifts and will award the receipt point shifts according to section 2.1(b) of the general terms and conditions of its tariff.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Comment Date: 5 p.m. eastern time November 22, 2005.

Magalie R. Salas,
Secretary.

[FR Doc. E5-6436 Filed 11-21-05; 8:45 am]

BILLING CODE 6717-01-P